NUCLEAR REGULATORY COMMISSION

[NRC-2018-0001]

Sunshine Act Meetings

DATE: Week of April 9, 2018.

PLACE: Commissioners' Conference Room, 11555 Rockville Pike, Rockville, Maryland.

STATUS: Public.

Week of April 9

Thursday, April 12, 2018

8:55 a.m. Affirmation Session (Public Meeting) (Tentative)

Entergy Nuclear Vermont Yankee, LCC, and Entergy Nuclear Operations, Inc; Vermont Yankee Nuclear Power Station) (Tentative)

This meeting will be webcast live at the Web address— http://www.nrc.gov/.

* * * * *

Additional Information

By a vote of 3-0 on April 9, 2018, the Commission determined pursuant to U.S.C. 552b(e) and § 9.107(a) of the Commission's rules that the above referenced Affirmation Session be held with less than one week notice to the public. The meeting is scheduled on April 12, 2018.

* * * * *

The schedule for Commission meetings is subject to change on short notice. For more information or to verify the status of meetings, contact Denise McGovern at 301-415-0981 or via email at Denise.McGovern@nrc.gov.

* * * * *

The NRC Commission Meeting Schedule can be found on the internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Wendy.Moore@nrc.gov or Patricia.Jimenez@nrc.gov.

Dated: April 9, 2018.
Denise L. McGovern,
Policy Coordinator, Office of the Secretary.

[FR Doc. 2018-07685 Filed 4-10-18; 11:15 am]

BILLING CODE 7590-01-P